DEPARTMENT OF ENERGY

Federal Energy Regulatory Commission

Combined Notice of Filings #1

Take notice that the Commission received the following exempt wholesale generator filings:

Docket Numbers: EG23-88-000.

Applicants: Fifth Standard Solar PV, LLC.

Description: Fifth Standard Solar PV, LLC submits Notice of Self-Certification of Exempt Wholesale Generator Status.

Filed Date: 3/10/23.

Accession Number: 20230310-5173.

Comment Date: 5 p.m. ET 3/31/23.

Take notice that the Commission received the following Complaints and Compliance filings in EL Dockets:

Docket Numbers: EL23-45-000.

Applicants: Public Service Commission of West Virginia v. PJM Interconnection, L.L.C.

Description: Complaint of Public Service Commission of West Virginia v. PJM Interconnection, L.L.C.

Filed Date: 3/8/23.

Accession Number: 20230308-5167.

Comment Date: 5 p.m. ET 3/28/23.

Take notice that the Commission received the following electric rate filings:

Docket Numbers: ER10-2126-006; EL23-9-000.

Applicants: Idaho Power Company.

Description: Response to February 15, 2023, Deficiency Letter of Idaho Power Company.

Filed Date: 3/7/23.

Accession Number: 20230307-5185.

Comment Date: 5 p.m. ET 3/28/23.

Docket Numbers: ER22-290-003.

Applicants: Oakland Power Company LLC.

Description: Compliance filing: Notice of Implementation of Capital Items to be effective 9/1/2022.

Filed Date: 3/10/23.

Accession Number: 20230310-5169.

Comment Date: 5 p.m. ET 3/31/23.

Docket Numbers: ER23-892-001.

Applicants: PJM Interconnection, L.L.C.

Description: Tariff Amendment: Amendment to Enhancements in OATT Att. Q and Request Shortened Comment Period to be effective 4/6/2023.

Filed Date: 3/10/23.

Accession Number: 20230310-5193.

Comment Date: 5 p.m. ET 3/15/23.

Docket Numbers: ER23-926-000.

Applicants: LS Power Grid California, LLC.

Description: LS Power Grid California, LLC submits Supplemental Information re HVDC Projects under ER23-926.

Filed Date: 3/9/23.

Accession Number: 20230309-5222.

Comment Date: 5 p.m. ET 3/20/23.

Docket Numbers: ER23-1279-000.

Applicants: DTE Energy Services, Inc.

Description: Baseline eTariff Filing: DTE Energy Services MBR Application Filing to be effective 3/10/2023.

Filed Date: 3/9/23.

Accession Number: 20230309-5146.

Comment Date: 5 p.m. ET 3/30/23.

Docket Numbers: ER23-1281-000.

Applicants: Midcontinent Independent System Operator, Inc.

Description: § 205(d) Rate Filing: 2023-03-10_SA 3314 Entergy Louisiana-St. James Solar 1st Rev GIA (J1142) to be effective 3/2/2023.

Filed Date: 3/10/23.

Accession Number: 20230310-5009.

Comment Date: 5 p.m. ET 3/31/23.

Docket Numbers: ER23-1284-000.

Applicants: ITC Midwest LLC.

Description: § 205(d) Rate Filing: Filing of an Amended and Restated Interconnection Agreement to be effective 5/10/2023.

Filed Date: 3/10/23.

Accession Number: 20230310-5013.

Comment Date: 5 p.m. ET 3/31/23.

Docket Numbers: ER23-1285-000.

Applicants: PJM Interconnection, L.L.C.

Description: § 205(d) Rate Filing: Amended WMPA, Service Agreement No. 4840; Queue No. AC2-174 to be effective 5/10/2023.

Filed Date: 3/10/23.

Accession Number: 20230310-5025.

Comment Date: 5 p.m. ET 3/31/23.

Docket Numbers: ER23-1286-000.

Applicants: PJM Interconnection, L.L.C.

Description: § 205(d) Rate Filing: Amendment to ISA, Service Agreement No. 6664; Queue No. AF1-083 to be effective 5/9/2023.

Filed Date: 3/10/23.

Accession Number: 20230310-5027.

Comment Date: 5 p.m. ET 3/31/23.

Docket Numbers: ER23-1290-000.

Applicants: PJM Interconnection, L.L.C.

Description: § 205(d) Rate Filing: Amendment to ISA, Service Agreement No. 6657; Queue No. AF1-050 to be effective 5/9/2023.

Filed Date: 3/10/23.

Accession Number: 20230310-5031.

Comment Date: 5 p.m. ET 3/31/23.

Docket Numbers: ER23-1291-000.

Applicants: Ashtabula Wind III, LLC.

Description: Tariff Amendment: Ashtabula Wind III, LLC Notice of Cancellation of Market-Based Rate Tariff to be effective 3/11/2023.

Filed Date: 3/10/23.

Accession Number: 20230310-5050.

Comment Date: 5 p.m. ET 3/31/23.

Docket Numbers: ER23-1292-000.

Applicants: PacifiCorp.

Description: Tariff Amendment: Termination of Avangrid Const Agmt for Klamath Metering to be effective 5/25/2023.

Filed Date: 3/10/23.

Accession Number: 20230310-5054.

Comment Date: 5 p.m. ET 3/31/23.

Docket Numbers: ER23-1297-000.

Applicants: Midcontinent Independent System Operator, Inc., Michigan Electric Transmission Company, LLC.

Description: § 205(d) Rate Filing: Midcontinent Independent System Operator, Inc. submits tariff filing per 35.13(a)(2)(iii: 2023-03-10_SA 1926 METC-CE 9th Rev DTIA to be effective 3/1/2023.

Filed Date: 3/10/23.

Accession Number: 20230310-5073.

Comment Date: 5 p.m. ET 3/31/23.

Docket Numbers: ER23-1298-000.

Applicants: OnPoint Energy Illinois, LLC.

Description: Tariff Amendment: Notice of Cancellation and Request for Waiver to be effective 3/11/2023.

Filed Date: 3/10/23.

Accession Number: 20230310-5079.

Comment Date: 5 p.m. ET 3/31/23.

Docket Numbers: ER23-1299-000.

Applicants: OnPoint Energy Northeast, LLC.

Description: Compliance filing: Notice of Succession and Revised Market-Based Rate Tariff to be effective 3/11/2023.

Filed Date: 3/10/23.

Accession Number: 20230310-5080.

Comment Date: 5 p.m. ET 3/31/23.

Docket Numbers: ER23-1300-000.

Applicants: OnPoint Energy Ohio, LLC.

Description: Tariff Amendment: Notice of Cancellation and Request for Waiver to be effective 3/11/2023.

Filed Date: 3/10/23.

Accession Number: 20230310-5082.

Comment Date: 5 p.m. ET 3/31/23.

Docket Numbers: ER23-1302-000.

Applicants: Alabama Power Company, Georgia Power Company, Mississippi Power Company.

Description: Tariff Amendment: Alabama Power Company submits tariff filing per 35.15: RE Limestone LGIA Termination Filing to be effective 3/10/2023.

Filed Date: 3/10/23.

Accession Number: 20230310-5084.

Comment Date: 5 p.m. ET 3/31/23.

Docket Numbers: ER23-1304-000.

Applicants: MFT Energy US 1 LLC.

Description: Baseline eTariff Filing: Baseline new to be effective 3/13/2023.

Filed Date: 3/10/23.

Accession Number: 20230310-5085.

Comment Date: 5 p.m. ET 3/31/23.

Docket Numbers: ER23-1307-000.

Applicants: New York Independent System Operator, Inc.

Description: § 205(d) Rate Filing: NYISO 205 filing re: Virtual and External Transactions to be effective 12/31/9998.

Filed Date: 3/10/23.

Accession Number: 20230310-5118.

Comment Date: 5 p.m. ET 3/31/23.

Docket Numbers: ER23-1308-000.

Applicants: Midcontinent Independent System Operator, Inc.

Description: § 205(d) Rate Filing: 2023-03-10_SA 4005 Ameren Missouri-Northeast Missouri Wind FSA (MPFCA) (J1025) to be effective 5/10/2023.

Filed Date: 3/10/23.

Accession Number: 20230310-5128.

Comment Date: 5 p.m. ET 3/31/23.

Docket Numbers: ER23-1314-000.

Applicants: ITC Midwest LLC.

Description: § 205(d) Rate Filing: Joint Use Pole Agreement with Amana Society Service Company (RS No. 223) to be effective 5/10/2023.

Filed Date: 3/10/23.

Accession Number: 20230310-5156.

Comment Date: 5 p.m. ET 3/31/23.

Docket Numbers: ER23-1315-000.

Applicants: Northern Indiana Public Service Company LLC.

Description: § 205(d) Rate Filing: Lagrange TDSIC CIAC to be effective 6/1/2023.

Filed Date: 3/10/23.

Accession Number: 20230310-5175.

Comment Date: 5 p.m. ET 3/31/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2023.
Debbie-Anne A. Reese,
Deputy Secretary.

[FR Doc. 2023-05425 Filed 3-16-23; 8:45 am]

BILLING CODE 6717-01-P